DEPARTMENT OF DEFENSE

[DoD-2006-OS-0101]

National Geospatial-Intelligence Agency (NGA); Privacy Act of 1974; System of Records

AGENCY: National Geospatial-Intelligence Agency (NGA).

ACTION: Notice to add a system of records.

SUMMARY: The National Geospatial-Intelligence Agency (NGA) proposes to add a system of records to its inventory of record systems subject to the Privacy Act of 1974 (5 U.S.C. 552a), as amended.

DATES: The changes will be effective on June 30, 2006 unless comments are received that would result in a contrary determination.

ADDRESSES: Send comments to Associate General Counsel, National Geospatial-Intelligence Agency, Information Law and Ethics (GCP), 4600 Sangamore Road (CGP (D10)), Bethesda, MD 20816-5003.

FOR FURTHER INFORMATION CONTACT: Mr. Jack Rickert at (301) 227-4156.

SUPPLEMENTARY INFORMATION: The National Geospatial-Intelligence Agency (NGA) notices for systems of records subject to the Privacy Act of 1974 (5 U.S.C. 552a), as amended, have been published in the Federal Register and are available from the address above.

The proposed systems reports, as required by 5 U.S.C. 552a(r) of the Privacy Act of 1974, as amended, were submitted on May 23, 2006, to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: May 24, 2006.
L.M. Bynum,
OSD Federal Register Liaison Officer, Department of Defense.

B0502-01

System name:

National Geospatial-Intelligence Agency (NGA) Public Key Enabled NIPRnet.

System location:

Primary location: National Geospatial-Intelligence Agency (NGA) Arnold Facility, 3838 Vogel Road, Arnold, MO 63010-6238.

Secondary location:

National Gospatial-Intelligence Agency (NGA) Bethesda Facility, 4600 Sangamore Road, Bethesda, MD 20816.

Categories of individuals covered by the system:

U.S. Government civilian employees, military personnel, and contractors.

Categories of records in the system:

Name, address, phone number, e-mail address, county of origin, citizen status, and contract name.

Authority for maintenance of the system:

5 U.S.C. 301, Departmental Regulations; 10 U.S.C. 455, Maps, charts, and geodetic data: Public availability; exceptions.

Purpose(s):

The purpose of the system is to manage user access to web applications and other resources.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of NGA's compilation of systems of records notices apply to this system.

Policies and practices for storing, retrieving, accessing, retaining, and disposing of records in the system:

Storage:

Records are maintained on magnetic disks.

Retrievability:

Records are retrieved by an algorithm which uses last name, first name, e-mail address and duty location as possible inputs.

Safeguards:

Record are maintained in controlled areas accessible only to authorized personnel. Access to personal information is further restricted by the use of passwords. Physical entry is restricted by the use of locks, guards, and administrative procedures.

REtention and disposal:

Data is destroyed when superseded or when no longer needed or operational purposes, whichever is later.

System Managers and addressess:

National Geospatial-Intelligence Agency, Security and Installation Operations, 4600 Sangamore Road, Bethesda, Maryland 20816-5003.

Notification procedure:

Individuals seeking to determine whether this system of records contains information about themselves should adderss written inquries to the National Geospatial-Intelligence Agency, Customer Help Desk/L-89, 3833 Vogel Road, Arnold, MO 63010.

The request should contain the full name, address, and telephone number.

Individuals can also access the “My Account” link (https://www.extranet.nga.mil/servlet/RegistrtionForm) on the NGA PKE NIPRNet.

Record access procedures:

Individuals seeking access to records about themselves contained in this system of records should address written inquiries to the National Geospatial-Intelligence Agency, Customer Help Desk/L-89, 3838 Vogel road, Ranold, MO 63010.

The request should contain the full name, address, and telephone number.

Individuals can also access the “My Account” link (https://www.extranet.nga.mil/servlet/RegistrationForm) on the NGA PKE NIPRNet.

Contesting record procedures:

The NGA rules for accessing records, for contesting contents and appealing initial agency determinations are contained in NGA Instruction 5500.7R1; 32 CFR part 320; or may be obtained from the system manager.

Record source categories:

Individuals and other Department of Defense Records.

Exemptions Claimed for the system:

None.

[FR Doc. 06-4960 Filed 5-30-06; 8:45 am]

BILLING CODE 5001-06-M